DEPARTMENT OF TRANSPORTATION

Federal Aviation Administration

14 CFR Part 39

[Docket No. FAA-2009-0611; Directorate Identifier 2008-NM-165-AD; Amendment 39-16033; AD 2009-20-10]

RIN 2120-AA64

Airworthiness Directives; Construcciones Aeronauticas, S.A. (CASA), Model C-212-CB, C-212-CC, C-212-CD, and C-212-CE Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Honeywell International, the manufacturer of the SPZ200 autopilot system installed on the EADS-CASA C-212 series aircraft, has identified a series of servo-motors * * * designed for use in the SPZ200 autopilot system, whose failure can lead to a potential unsafe flight condition. * * *

* * * * *

The unsafe condition is failure of the servo-motors, which could result in roll oscillations or possible hard-over failures when the autopilot is engaged. We are issuing this AD to require actions to correct the unsafe condition on these products.

DATES: This AD becomes effective November 17, 2009.

The Director of the Federal Register approved the incorporation by reference of certain publications listed in this AD as of November 17, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Shahram Daneshmandi, Aerospace Engineer, International Branch, ANM-116, Transport Airplane Directorate, FAA, 1601 Lind Avenue, SW., Renton, Washington 98057-3356; telephone (425) 227-1112; fax (425) 227-1149.

SUPPLEMENTARY INFORMATION:

Discussion

We issued a notice of proposed rulemaking (NPRM) to amend 14 CFR part 39 to include an AD that would apply to the specified products. That NPRM was published in the Federal Register on July 16, 2009 (74 FR 34520). That NPRM proposed to correct an unsafe condition for the specified products. The MCAI states:

Honeywell International, the manufacturer of the SPZ200 autopilot system installed on the EADS-CASA C-212 series aircraft, has identified a series of servo-motors, P/N [part number] 4006719-904 and P/N 4006719-913, designed for use in the SPZ200 autopilot system, whose failure can lead to a potential unsafe flight condition. To address and correct this situation, Honeywell International has published Alert Service Bulletin (ASB) 4006719-22-A0016 (Revised) dated 1 November 2004, that identifies the affected servo-motors by serial number, recommending the removal of these units from the aircraft and including modification instructions to be accomplished prior to reinstallation.

EADS-CASA has determined that the flight safety of the C-212 aircraft is at risk. Consequently, Boletin de Servicio (Service Bulletin) SB-212-22-16 has been published to advise C-212 operators of this condition and to recommend that the affected servo-motors are modified or replaced with modified units.

For the reasons described above, this EASA AD requires the identification of the affected servo-motors and modification or replacement with modified units.

The unsafe condition is failure of the servo-motors, which could result in roll oscillations or possible hard-over failures when the autopilot is engaged. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 26 products of U.S. registry. We also estimate that it will take about 5 work-hours per product to comply with the basic requirements of this AD. The average labor rate is $80 per work-hour. Based on these figures, we estimate the cost of this AD to the U.S. operators to be $10,400, or $400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-20-10 Construcciones Aeronauticas, S.A. (CASA): Amendment 39-16033. Docket No. FAA-2009-0611; Directorate Identifier 2008-NM-165-AD.

Effective Date

(a) This airworthiness directive (AD) becomes effective November 17, 2009.

Affected ADs

(b) None.

Applicability

(c) This AD applies to CASA Model C-212-CB, C-212-CC, C-212-CD and C-212-CE airplanes, all serial numbers; certificated in any category; on which autopilot servo-drive actuators (servo-motors) having part number (P/N) 4006719-904 or 4006719-913 are installed.

Subject

(d) Air Transport Association (ATA) of America Code 22: Auto flight.

Reason

(e) The mandatory continuing airworthiness information (MCAI) states:

Honeywell International, the manufacturer of the SPZ200 autopilot system installed on the EADS-CASA C-212 series aircraft, has identified a series of servo-motors, P/N [part number] 4006719-904 and P/N 4006719-913, designed for use in the SPZ200 autopilot system, whose failure can lead to a potential unsafe flight condition. To address and correct this situation, Honeywell International has published Alert Service Bulletin (ASB) 4006719-22-A0016 (Revised) dated 1 November 2004, that identifies the affected servo-motors by serial number, recommending the removal of these units from the aircraft and including modification instructions to be accomplished prior to reinstallation.

EADS-CASA has determined that the flight safety of the C-212 aircraft is at risk. Consequently, Boletin de Servicio (Service Bulletin) SB-212-22-16 has been published to advise C-212 operators of this condition and to recommend that the affected servo-motors are modified or replaced with modified units.

For the reasons described above, this EASA AD requires the identification of the affected servo-motors and modification or replacement with modified units.

The unsafe condition is failure of the servo-motors, which could result in roll oscillations or possible hard-over failures when the autopilot is engaged.

Actions and Compliance

(f) Unless already done, do the following actions.

(1) Within 2 months after the effective date of this AD: Identify affected servo-motors having P/N 4006719-904 and P/N 4006719-913 and modify each unit or replace with a modified unit, in accordance with the instructions of EADS-CASA Service Bulletin SB-212-22-16, dated March 13, 2006.

(2) As of the effective date of this AD, no person may install, on any airplane, a servo-motor having P/N 4006719-904 or 4006719-913, and any affected serial number identified in Honeywell Alert Service Bulletin 4006719-22-A0016, Revision 001, dated November 1, 2004 (referenced in EADS-CASA Service Bulletin SB-212-22-16, dated March 13, 2006, as the source of service information for accomplishing the modification), unless it has been modified in accordance with paragraph (f)(1) of this AD.

Note 1: The 8 digit serial number specified in Honeywell Alert Service Bulletin 4006719-22-A0016, Revision 001, dated November 1, 2004, is a combination date code and serial number. The format is as follows: YYMMXXXX—YY is the year; MM is the month, and XXXX is a sequential manufacturing serial number (e.g., a unit with number 0111XXXX was manufactured in November 2001).

FAA AD Differences

Note 2: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Shahram Daneshmandi, Aerospace Engineer, International Branch, ANM-116, Transport Airplane Directorate, FAA, 1601 Lind Avenue, SW., Renton, Washington 98057-3356; telephone (425) 227-1112; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0144, dated August 1, 2008; EADS-CASA Service Bulletin SB-212-22-16, dated March 13, 2006; and Honeywell Alert Service Bulletin 4006719-22-A0016, Revision 001, dated November 1, 2004; for related information.

Material Incorporated by Reference

(i) You must use EADS-CASA Service Bulletin SB-212-22-16, dated March 13, 2006; and Honeywell Alert Service Bulletin 4006719-22-A0016, Revision 001, dated November 1, 2004; as applicable; to do the actions required by this AD, unless the AD specifies otherwise. (The revision level of Honeywell Alert Service Bulletin 4006719-22-A0016, Revision 001, dated November 1, 2004, is indicated only on pages 1 and 2 of the document.)

(1) The Director of the Federal Register approved the incorporation by reference of this service information under 5 U.S.C. 552(a) and 1 CFR part 51.

(2) For service information identified in this AD, contact EADS-CASA, Military Transport Aircraft Division (MTAD), Integrated Customer Services (ICS), Technical Services, Avenida de Aragón 404, 28022 Madrid, Spain; telephone +34 91 585 55 84; fax +34 91 585 55 05; e-mail MTA.TechnicalService@casa.eads.net; Internet http://www.eads.net.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on September 18, 2009.
Ali Bahrami,
Manager, Transport Airplane Directorate, Aircraft Certification Service.

[FR Doc. E9-23507 Filed 10-9-09; 8:45 am]

BILLING CODE 4910-13-P